INTERNATIONAL TRADE COMMISSION

[Investigation No. 337-TA-1364]

Certain Blood Flow Restriction Devices With Rotatable Windlasses and Components Thereof; Notice of Issuance of a General Exclusion Order, a Limited Exclusion Order, and Cease and Desist Orders; Termination of the Investigation

AGENCY: U.S. International Trade Commission.

ACTION: Notice.

SUMMARY: Notice is hereby given that the U.S. International Trade Commission (“Commission”) has determined to issue a general exclusion order (“GEO”) prohibiting the importation of blood flow restriction devices with rotatable windlasses and components thereof that infringe one or more of claims 1, 4, 15, or 16 of U.S. Patent No. 7,842,067 (“the '067 patent”); a limited exclusion order (“LEO”) prohibiting the unlicensed entry of blood flow restriction devices with rotatable windlasses and components thereof that infringe the asserted trademarks and trade dress that are manufactured by or on behalf of, or imported by or on behalf of defaulting respondents; and cease and desist orders (“CDOs”) directed against certain defaulting respondents. The investigation is terminated.

FOR FURTHER INFORMATION CONTACT: Joelle P. Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 31, 2023, based on a complaint, as supplemented, filed by Composite Resources, Inc. of Rock Hill, South Carolina, and North American Rescue, LLC of Greer, South Carolina (collectively, “Complainants”). 88 FR 34893-95 (May 31, 2023). The complaint, as supplemented, alleged violations of section 337 of the Tariff Act of 1930, as amended, 19 U.S.C. 1337, in the importation into the United States, sale for importation, or sale in the United States after importation of certain blood flow restriction devices with rotatable windlasses and components thereof that infringe one or more of: claims 1-17 of the '067 patent, claims 1-30 of the U.S. Patent No. 8,888,807 (“the '807 patent”), and claims 1-13 of the U.S. Patent No. 10,016,203 (“the '203 patent”); United States Trademark Registration Nos. 3,863,064 and 5,064,378; and trade dress infringement in violation of Section 43(a) of the Lanham Act (15 U.S.C. 1125) the threat or effect of which is to destroy or substantially injure an industry in the United States. Id. at 34893-94; see Complaint, ¶¶ 9-15. The complaint also requested the issuance of a GEO with respect to all of these allegations.

The Commission's notice of investigation named the following respondents: (1) Anping Longji Medical Equipment Factory of Hengshui City, China; Dongguanwin Si Hai Precision Mold Co., Ltd. of Dongguan, China; Eiffel Medical Supplies Co., Ltd. of Shenzhen, China; Empire State Distributors Inc. of Brooklyn, New York; EMRN Medical Equipment of LaSalle, Canada; GD Tianwu New Material Tech Co., Ltd. of Shawan Town, China; Hengshui Runde Medical Instruments Co., Ltd. of Hengshui City, China; Putian Dima Trading Co., Ltd. of Putian City, China; Rhino Inc. of Lewes, Delaware; Shanghai Sixu International Freight Agent Co., Ltd. of Shanghai, China; Shenzhen Anben E-Commerce Co., Ltd. of Shenzhen, China; Shenzhen TMI Medical Supplies Co., Ltd. of Shenzhen, China; Shenzhen Yujie Commercial and Trading Co., Ltd. of Shenzhen, China; Wuxi Emsrun Technology Co., Ltd. of Wuxi City, China; Wuxi Golden Hour Medical Technology Co., Ltd. of Wuxi City, China; and Wuxi Puneda Technology Co., Ltd. of Wuxi City, China (collectively, “the Defaulting Respondents”); (2) Chaozhou Jiduo Trading Co., Ltd. of Chaozhou City, China; Dongguan Hongsui Electronic Commerce, Co., Ltd. of Dongguan City, China; Fuzhou Meirun Medical Equipment Technology Co., Ltd. of Fuzhou, China; Henan Eyocean E-Commerce Co., Ltd. of Zhengzhou, China; Huang Xia of Sangzi Town, China; Jingcai Jiang of Shenzhen, China; Shen Yi of Shenzhen, China; Shenzhen Janxle E E Commerce Co., Ltd. of Shenzhen, China; Shenzhen Smart Medical Co. Ltd. of Shenzhen, China; Sun Minghui of Shenzhen, China; Xia Guo Long of Dongguan City, China; and Yinping Yin of Shenzhen, China (collectively, “the Unserved Respondents”); and (3) Express Companies, Inc. of Oceanside, California, and SZY Holdings LLC of Brooklyn, New York (collectively, “the Participating Respondents”). Id. The Office of Unfair Import Investigations (“OUII”) is also a party to this investigation.

The Commission terminated the Participating Respondents based on the entry of consent orders. See Order No. 7 (Aug. 9, 2023), unreviewed by Comm'n Notice (Sept. 5, 2023); Order No. 13 (Oct. 3, 2023), unreviewed by Comm'n Notice (Nov. 2, 2023). The Commission also terminated the Unserved Respondents based on the withdrawal of the complaint as to those respondents. See Order No. 10 (Aug. 22, 2023), unreviewed by Comm'n Notice (Sept. 20, 2023). The Commission also found the Defaulting Respondents in default. See Order No. 11 (Aug. 29, 2023), unreviewed by Comm'n Notice (Sept. 22, 2023).

On November 1, 2023, Complainants filed a motion to partially terminate the investigation with respect to the '807 and '203 patents. On November 2, 2023, the ALJ issued Order No. 14 granting the motion. Order No. 14 (Nov. 2, 2023), unreviewed by Comm'n Notice (Dec. 4, 2023). On January 23, 2024, Complainants filed a motion to terminate claims 2, 3, 5-14, and 17 of the '067 patent. On January 25, 2024, the ALJ issued Order No. 19 granting the motion. Order No. 19 (Jan. 25, 2024), unreviewed by Comm'n Notice (Feb. 15, 2024). Therefore, only claims 1, 4, 15, and 16 of the '067 patent remained asserted.

On December 22, 2023, Complainants filed a motion for summary determination on violation of section 337 with regard to the '067 patent, asserted trademarks, and asserted trade dress by the Defaulting Respondents. On February 7, 2024, the ALJ issued Order No. 20, granting the motion in part with respect to the claims 1, 4, 15, and 16 of the '067 patent. Order No. 20 (Feb. 7, 2024), unreviewed by Comm'n Notice (Mar. 6, 2024). Order No. 20 found that (1) the importation requirement was satisfied with respect to the Defaulting Respondents with the exception of Empire State Distributors Inc.; (2) the accused products infringe claims 1, 4, 15, and 16 of the '067 patent; (3) the domestic industry products practice claim 1 of the '067 patent; and (4) the economic prong of the domestic industry was satisfied. Id. The Commission determined not to review the affirmative findings in Order No. 20. See Comm'n Notice (Mar. 6, 2024).

On March 1, 2024, Complainants filed a motion to terminate the investigation in part based on a withdrawal of its request for a GEO as to the trademark and trade dress claims and to cancel the evidentiary hearing. On March 19, 2024, the ALJ granted the motion and issued Order No. 23, which was styled as an initial determination. The Commission determined that the request to withdraw a requested remedy is not properly the subject of a motion for termination nor an issue that must be decided in the form of an initial determination. Comm'n Notice at 3 (April 18, 2024). Accordingly, the Commission treated Order No. 23 as an order and not an initial determination. Id.

Order No. 23 also included the ALJ's Recommended Determination (“RD”) on remedy and bonding. Specifically, the RD recommended that the Commission issue a GEO as to claims 1, 4, 15, and 16 of the '067 patent. RD at 9-12. The RD further recommended issuing an LEO as well as CDOs against each of the Defaulting Respondents in connection with the patent, trademark, and trade dress claims. Id. at 13-15. Finally, the RD recommended that the Commission set the bond during the Presidential review period at one hundred percent (100%). Id. at 15-16.

The Commission issued a notice soliciting comments regarding any public interest concerns raised by the recommend relief appeared in the Federal Register on April 2, 2024. See 89 FR 22741 (Apr. 2, 2024). Complainants filed a statement on public interest pursuant to Commission Rule 210.50(a)(4), 19 CFR 210.50(a)(4), but no other comments were received in response to the notice.

The Commission requested briefing on remedy, bonding, and the public interest. Comm'n Notice (Apr. 18, 2024); 89 FR 31214-6 (Apr. 24, 2024). On May 2, 2024, Complainants and OUII filed opening submissions. On May 16, 2024, Complainants and OUII filed responsive submissions. No other party filed a submission before the Commission.

Having reviewed the record of the investigation, including the RD and the parties' submissions, the Commission has determined that the appropriate remedy is: (1) a GEO prohibiting the unlicensed entry of blood flow restriction devices with rotatable windlasses and components thereof that infringe one or more of claims 1, 4, 15, and/or 16 of the '067 patent; (2) an LEO prohibiting the unlicensed entry of blood flow restriction devices with rotatable windlasses and components thereof that infringe the asserted trademarks and/or the asserted trade dress manufactured by or on behalf of, or imported by or on behalf of any of the Defaulting Respondents; and (3) CDOs directed against Anping Longji Medical Equipment Factory; Empire State Distributors Inc.; Hengshui Runde Medical Instruments Co., Ltd.; Putian Dima Trading Co., Ltd.; Rhino Inc.; Shenzhen Anben E-Commerce Co., Ltd.; Shenzhen Yujie Commercial and Trading Co., Ltd.; Wuxi Emsrun Technology Co., Ltd.; and Wuxi Puneda Technology Co., Ltd.

The Commission has further determined that the public interest factors enumerated in subsections (d)(l), (f)(1), and (g)(1) (19 U.S.C. 1337(d)(l), (f)(1), (g)(1)) do not preclude issuance of the above referenced remedial orders. Additionally, the Commission has determined to impose a bond of 100% of entered value of the covered products during the period of Presidential review (19 U.S.C. 1337(j)).

This investigation is terminated.

The Commission vote for this determination took place on September 30, 2024.

This action is taken under the authority of section 337 of the Tariff Act of 1930, as amended (19 U.S.C. 1337), and in part 210 of the Commission's Rules of Practice and Procedure (19 CFR part 210).

By order of the Commission.
Issued: September 30, 2024.
Lisa Barton,
Secretary to the Commission.

[FR Doc. 2024-22937 Filed 10-3-24; 8:45 am]

BILLING CODE 7020-02-P